DEPARTMENT OF ENERGY

Federal Energy Regulatory Commission

[Docket No. ER01-1685-001, et al.]

Portland General Electric Company, et al.; Electric Rate and Corporate Regulation Filings

July 16, 2001.

Take notice that the following filings have been made with the Commission:

1. Portland General Electric Company

[Docket No. ER01-1685-001]

Take notice that on July 11, 2001, Portland General Electric Company (PGE) filed substitute tariff sheets in its Open Access Transmission Tariff in compliance with the Commission's June 1, 2001 order in the above-referenced docket. Portland General Electric Co., 95 FERC 61,341 (2001). PGE requests that the Commission make the revised tariff sheets effective as of April 2, 2001.

Comment date: August 1, 2001, in accordance with Standard Paragraph E at the end of this notice.

2. Public Service Company of Oklahoma

[Docket No. ER01-1790-001]

Take notice that on July 11, 2001, Public Service Company of Oklahoma (PSO) tendered for filing in compliance with the Commission's letter order of June 12, 2001, a Supplement to the Interconnection Agreement with Calpine Oneta Power, L.P. AEP requests an effective date of June 12, 2001. Copies of PSO's filing has been served upon the Calpine and the Oklahoma Corporation Commission.

Comment date: August 1, 2001, in accordance with Standard Paragraph E at the end of this notice.

3. Gray County Wind Energy, LLC

[Docket No. ER01-1972-001]

Take notice that on July 11, 2001, Gray County Wind Energy, LLC (Gray County) tendered for filing designations for two long term power purchase agreements and revised tariff sheets to Gray County's FERC Electric Tariff, Original Volume No.1 in compliance with the Letter Order issued on July 3, 2001 in this Docket No. ER01-1972-000. The tariff revision incorporates a prohibition on power purchases from any affiliated public utility with a franchised service territory absent a rate filing under Section 205 of the Federal Power Act.

Comment date: August 1, 2001, in accordance with Standard Paragraph E at the end of this notice.

4. Allegheny Energy Service Corporation, on behalf of Allegheny Energy Supply Company, LLC, Monongahela Power Company, The Potomac Edison Company and West Penn Power Company, (Allegheny Power)

[Docket No. ER00-2309-002]

Take notice that on July 10, 2001, Allegheny Energy Service Corporation on behalf of Allegheny Energy Supply Company, LLC (AE Supply), The Potomac Edison Company and West Penn Power Company (Allegheny Power) filed First Revised Sheet No. 7 to AE Supply's First Revised Rate Schedule FERC No. 3 in accordance with the Commission's Order of July 2, 2001 at Docket No. ER00-2309-001, 96 FERC 61,002 (2001).

Copies of the filing have been provided to the customer, the Public Utilities Commission of Ohio, the Pennsylvania Public Utility Commission, the Maryland Public Service Commission, the Virginia State Corporation Commission and the West Virginia Public Service Commission.

Comment date: July 31, 2001, in accordance with Standard Paragraph E at the end of this notice.

5. Pro-Energy Development LLC

[Docket No. ER01-2463-000]

Take notice that on June 29, 2001, Pro Energy Development LLC petitioned the Commission for acceptance of Pro Energy Development LLC Rate Schedule FERC No. 1; the granting of certain blanket approvals; including the authority to sell electricity at market based rates and the waiver of certain Commission regulations.

Pro Energy Development LLC intends to engage in wholesale electric power and energy purchases and sales as a marketer. Pro Energy Development LLC is not in the business of generating or transmitting electric power.

Comment date: July 30, 2001, in accordance with Standard Paragraph E at the end of this notice.

6. American Transmission Company LLC

[Docket No. ER01-2560-000]

Take notice that on July 11, 2001, American Transmission Company LLC (ATCLLC) tendered for filing a Firm and Non-Firm Point-to-Point Service Agreement between ATCLLC and Calpine Energy Services, L.P. ATCLLC requests an effective date of June 29, 2001.

Comment date: August 1, 2001, in accordance with Standard Paragraph E at the end of this notice.

7. Northeast Empire Limited Partnership #2

[Docket No. ER01-2561-000]

Take notice that Northeast Empire Limited Partnership #2 (NELP#2), on July 11, 2001, tendered for filing an application for approval of market-based rate schedules to sell capacity, energy and ancillary services to WPS Energy Services, Inc. pursuant to Section 205 of the Federal Power Act.

NELP#2 requests that the Commission accept these Rate Schedules for filing by August 10, 2001.

Comment date: August 1, 2001, in accordance with Standard Paragraph E at the end of this notice.

8. Competitive Energy Services, LLC

[Docket No. ER01-2562-000]

Take notice that on July 11, 2001, Competitive Energy Services, LLC (CES) petitioned the Commission for acceptance of CES Rate Schedule FERC No. 1; the granting of certain blanket approvals, including the authority to sell electricity at market-based rates; and the waiver of certain Commission regulations.

CES intends to engage in wholesale electric power and energy purchases and sales as a marketer. CES is not in the business of generating or transmitting electric power.

Comment date: August 1, 2001, in accordance with Standard Paragraph E at the end of this notice.

9. Jackson County Power, LLC

[Docket No. ER01-2563-000]

Take notice that on July 11, 2001, Jackson County Power, LLC (Jackson County), an electric power developer organized under the laws of Delaware, petitioned the Commission for acceptance of its market-based rate tariff, waiver of certain requirements under Subparts B and C of Part 35 of the Commission's regulations, and preapproval of transactions under Part 34 of the regulations. Jackson County is developing an 1,072 MW (summer rated) gas fired generating facility in Jackson County, Ohio, six miles south of Jackson, Ohio.

Comment date: August 1, 2001, in accordance with Standard Paragraph E at the end of this notice.

10. Arizona Public Service Company

[Docket No. ER01-2564-000]

Take notice that on July 11, 2001, the Arizona Public Service Company tendered for filing proposed revisions to Arizona Public Service Company's fuel adjustment clause contained in certain wholesale power agreements on file with the Commission.

A copy of this filing has been served on all parties on the service list.

Comment date: August 1, 2001, in accordance with Standard Paragraph E at the end of this notice.

11. American Electric Power Service Corporation

[Docket No. ER01-2565-000]

Take notice that on July 11, 2001, Kentucky Power Company tendered for filing a letter agreement with Foothills Generating, L.L.C. AEP requests an effective date of June 20, 2001. Copies of Kentucky Power Company's filing has been served upon the Kentucky Public Service Commission.

Comment date: August 1, 2001, in accordance with Standard Paragraph E at the end of this notice.

12. Public Service Company of New Mexico

[Docket No. ER01-2566-000]

Take notice that on July 11, 2001, Public Service Company of New Mexico (PNM) submitted for filing an executed copy of a Wholesale Requirements Power Sale and Services Agreement (Agreement) dated June 29, 2001 (the requested effective date for the Agreement), between PNM and Texas-New Mexico Power Company (TNMP). The Agreement, which runs from July 1, 2001 through December 31, 2006, and which is being filed as a Service Agreement under PNM's FERC Electric Tariff, First Revised Volume No. 3. Beginning January 1, 2003, and through the remainder of the Agreement, PNM will be TNMP's sole provider of resources to serve its New Mexico retail load requirements. PNM's filing is available for public inspection at its offices in Albuquerque, New Mexico.

Copies of this filing have been served upon TNMP and the New Mexico Public Regulation Commission.

Comment date: August 1, 2001, in accordance with Standard Paragraph E at the end of this notice.

13. PPL Large Scale Distributed Generation II, LLC.

[Docket No. EL01-102-000]

Take notice that on July 12, 2001, PPL Large Scale Distributed Generation II, LLC (Applicant) tendered for filing with the Federal Energy Regulatory Commission (Commission) a petition for declaratory order disclaiming jurisdiction.

The Applicant intends to develop certain electric generating facilities to be located in Illinois, Arizona and Pennsylvania. Applicant is seeking a disclaimer of jurisdiction in connection with a lease financing involving those facilities.

Comment date: August 13, 2001, in accordance with Standard Paragraph E at the end of this notice.

14. Midwest Energy, Inc.

[Docket No. ER01-2461-000]

Take notice that on June 28, 2001, Midwest Energy, Inc. (Midwest) tendered for filing with the Federal Energy Regulatory Commission (Commission) an executed Transaction Service Agreement between Midwest and City of Colby, Kansas.

Midwest states that the agreement was served on the Kansas Corporation Commission.

Comment date: July 26, 2001, in accordance with Standard Paragraph E at the end of this notice.

15. San Diego Gas & Electric Company, Complainant, v. Sellers of Energy and Ancillary Services Into Markets Operated By the California Independent System Operator Corporation and the California Power Exchange, Respondents

[Docket No. EL00-95-040]

Investigation of Practices of the California Independent System Operator and the California Power Exchange

[Docket No. EL00-98-038]

Investigation of Wholesale Rates of Public Utility Sellers of Energy and Ancillary Services In the Western Systems Coordinating Council

[Docket No. EL01-68-003]

Take notice that on July 10, 2001, the California Independent System Operator Corporation (ISO) tendered for filing changes to the ISO Tariff to comply with the Commission's June 19, 2001, order in the above-captioned proceeding, San Diego Gas & Electric Co. v. Sellers of Energy and Ancillary Services Into Markets Operated by the California Independent System Operator and the California Power Exchange, et al., 95 FERC ¶61,418 (2001). The ISO also tendered for filing changes to the ISO Tariff to comply with the Commission's May 25, 2001, order in the above-captioned proceeding, San Diego Gas & Electric Co. v. Sellers of Energy and Ancillary Services Into Markets Operated by the California Independent System Operator and the California Power Exchange, et al., 95 FERC ¶61,275 (2001) and to reflect the rejection of Amendment No. 31 to the ISO Tariff in the Commission's November 1, 2000, order in the above-captioned proceeding, San Diego Gas & Electric Co. v. Sellers of Energy and Ancillary Services Into Markets Operated by the California Independent System Operator and the California Power Exchange, et al., 93 FERC ¶61,121 (2000). The ISO states that this filing has been served upon all parties in this proceeding.

Comment date: August 9, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-18145 Filed 7-19-01; 8:45 am]

BILLING CODE 6717-01-P